DEPARTMENT OF TRANSPORTATION

Federal Transit Administration

49 CFR Part 672

[Docket No. FTA-2023-0025]

RIN 2132-AB43

Public Transportation Safety Certification Training Program

AGENCY: Federal Transit Administration (FTA), U.S. Department of Transportation (DOT).

ACTION: Final rule.

SUMMARY: The Federal Transit Administration (FTA) is publishing a final rule for the Public Transportation Safety Certification Training Program (PTSCTP). This final rule clarifies voluntary PTSCTP participation and sets administrative requirements for communication processes between FTA and FTA recipients subject to the requirements of this rule. This final rule also adds new definitions and revises existing definitions to coordinate and align with other FTA programs and safety rulemakings.

DATES: The effective date of this final rule is November 1, 2024.

ADDRESSES: FTA's Office of Transit Safety and Oversight (TSO) will host a webinar to discuss the requirements of the PTSCTP final rule.

Please visit https://www.transit.dot.gov/regulations-and-guidance/safety/safety-training to register for webinars and for information about future webinars. FTA is committed to providing equal access for all webinar participants. If you need alternative formats, options, or services, contact FTA-Knowledge@dot.gov at least three business days prior to the event. If you have any questions, please email FTA-Knowledge@dot.gov.

FOR FURTHER INFORMATION CONTACT: For program matters, contact Jeremy Furrer, Office of Transit Safety and Oversight (TSO), (202) 366-8929 or jeremy.furrer@dot.gov. For legal matters, contact Mark Montgomery, Office of Chief Counsel, (202) 366-1017 or mark.montgomery@dot.gov.

Office hours are from 8:30 a.m. to 5 p.m., Monday through Friday, except Federal holidays.

SUPPLEMENTARY INFORMATION:

Table of Contents

I. Executive Summary

A. Statutory Authority

B. Summary of Key Provisions

C. Benefits and Costs

II. Notice of Proposed Rulemaking and Response to Comments

A. Section 672.3—Scope and Applicability

B. Section 672.5—Definitions

C. Section 672.11—State Safety Oversight Agency Employees and Contractors Who Conduct Reviews, Inspections, Examinations, and Other Safety Oversight Activities of Rail Fixed Guideway Public Transportation Systems

D. Section 672.13—Rail Transit Agency Employees and Contractors Who Are Directly Responsible for the Safety Oversight or a Rail Fixed Guideway Public Transportation System

E. Section 672.17—Voluntary Participants

F. Section 672.21—Records

III. Section-by-Section Analysis

IV. Regulatory Analyses and Notices

I. Executive Summary

This final rule amends the PTSCTP regulation at 49 CFR part 672 with new administrative requirements for recipients that are subject to the requirements of the rule. The final rule maintains the existing minimum training requirements for State Safety Oversight Agency (SSOA) employees and contractors who conduct reviews, inspections, examinations, and other safety oversight activities of public transportation systems and employees and contractors who are directly responsible for the safety oversight of a rail fixed guideway public transportation system.

A. Statutory Authority

Congress directed FTA to establish a comprehensive Public Transportation Safety Program, one element of which is the requirement for a PTSCTP in the Moving Ahead for Progress in the 21st Century Act (MAP-21) (Pub. L. 112-141), which was reauthorized by the Fixing America's Surface Transportation Act (FAST Act) (Pub. L. 114-94). To implement the requirements of 49 U.S.C. 5329(d), FTA issued a final rule on July 19, 2018, that added part 672, “Public Transportation Safety Certification Training Program,” to title 49 of the Code of Federal Regulations (83 FR 34053). Subsequently, the Bipartisan Infrastructure Law, enacted as the Infrastructure Investment and Jobs Act (Pub. L. 117-58), established new requirements for FTA's Public Transportation Safety Program that will be addressed in the PTSCTP curriculum.

B. Summary of Key Provisions

This final rule implements discretionary updates, including:

• Addition of new definitions and revisions of existing definitions that do not change existing requirements and that were added to provide clarity and consistency across FTA programs and rulemakings.

• Requirement for SSOAs and rail transit agencies to establish a point of contact for communication with FTA regarding PTSCTP participation and enrollment.

• Requirement for SSOA and rail transit agency points of contact to provide semiannual reports to FTA regarding the status of their participants and agency-defined recertification training.

• Clarification of voluntary participation in the PTSCTP.

• Removal of Appendix A to allow flexibility in PTSCTP curriculum revision.

In response to comments, FTA revised the term “refresher training” to “recertification training” in the final rule to clarify the applicability of the training required to maintain PTSCTP certification. Recertification requirements only apply to the “designated personnel” identified in § 672.11(a) and § 672.13(a).

C. Benefits and Costs

The final rule adds administrative and training requirements for SSOAs and rail transit agencies subject to the PTSCTP. The rule would lead to increased compliance with PTSCTP requirements and cost savings for FTA staff; it would also result in increased costs for SSOAs and rail transit agencies. Table 1 summarizes the economic effects of the final rule over the first ten years from 2024 to 2033 in 2022 dollars. On an annualized basis, the rule would have net costs of $318,000 at a 2 percent discount rate, $321,000 at a 3 percent rate, and $334,000 at a 7 percent rate, discounted to 2024.

Table 1—Summary of Economic Effects, 2024-2033
[2022 Dollars, discounted to 2023]
Item | Annualized (2%) | Annualized (3%) | Annualized (7%)
Benefits:
Cost savings for FTA staff | $6,022 | $6,081 | $6,317
Costs:
Staff enrollment | 70,574 | 71,266 | 74,034
Point of contact identification | 11,762 | 11,878 | 12,339
Point of contact responsibilities | 130,903 | 132,187 | 137,320
Semi-annual reporting | 23,525 | 23,755 | 24,678
Refresher training | 87,316 | 88,172 | 91,596
Total costs | 324,080 | 327,258 | 339,967
Net costs | 318,059 | 321,177 | 333,650

II. Notice of Proposed Rulemaking and Response to Comments

FTA issued a notice of proposed rulemaking (NPRM) for the PTSCTP on October 26, 2023 (88 FR 73573).¹ The public comment period for the NPRM closed on December 26, 2023. FTA received 15 comment submissions to the rulemaking docket. Commenters included States, transit agencies, industry associations, individuals, and a nonprofit organization. FTA has considered these comments and addresses them in the corresponding sections below. Some comments were outside the scope of this rulemaking, and FTA does not respond to comments in this final rule that were outside the scope.

¹ Public Transportation Safety Certification Training Program, 88 FR 73573 (October 26, 2023). https://www.federalregister.gov/documents/2023/10/26/2023-23515/public-transportation-safety-certification-training-program.

FTA reviewed all relevant comments and took them into consideration when developing the final rule. Below, the NPRM comments and responses are subdivided by the corresponding sections of the proposed rule and subject matter.

A. Section 672.3—Scope and Applicability

1. General

Comments: Several commenters offered comments related to the PTSCTP curriculum. One nonprofit organization stated that given current safety concerns, the PTSCTP training curriculum is still relevant. One individual encouraged FTA to ensure training availability is appropriate to meet the industry's demand, given the rate of turnover within agencies. A transit agency and one individual requested that the Transportation Safety Institute (TSI) course Transit Safety and Security Audits be added to the PTSCTP training curriculum for rail transit agencies and SSOAs, arguing that audits and reviews are activities required by FTA and that it is critical for safety professionals to be trained and qualified to perform audit/review/inspections activities. An industry association requested that FTA provide a timeline for any changes to the PTSCTP training curriculum to provide time for transit agencies to address any changes.

Other commenters requested broad changes to the PTSCTP requirements. One nonprofit organization requested that FTA require all designated personnel to complete the entire curriculum annually. An industry association requested that FTA merge the PTSCTP and the Transit Safety and Security Program (TSSP) into one certification program.

Response: FTA appreciates the commenter who confirmed the continued relevance of the PTSCTP curriculum. FTA acknowledges the two commenters that suggested the addition of specific courses to the required PTSCTP curriculum. FTA appreciates the feedback regarding the importance of auditing and review skills for certain SSOA and transit agency personnel. This final rule does not alter the existing PTSCTP curriculum. FTA notes that it has removed the required PTSCTP curriculum from the appendix of the regulation to afford FTA additional flexibility to address curriculum updates.

FTA acknowledges the commenter that suggested FTA require all required participants to complete the entire PTSCTP curriculum annually. FTA believes that such a change would be overly burdensome for transit agencies and SSOAs by requiring designated individuals to complete over 140 hours of PTSCTP training annually. FTA declines to implement this change and confirms that this final rule requires designated individuals to complete the PTSCTP curriculum within three years of designation to receive certification and to complete applicable recertification requirements every two years thereafter to maintain this certification.

FTA acknowledges the comment requesting FTA merge the PTSCTP with the TSSP administered by the Transportation Safety Institute. FTA notes that the TSSP is outside the scope of this final rule. FTA notes that this final rule does not alter the existing PTSCTP curriculum. Further, FTA will coordinate with the industry in the future regarding any curriculum changes to ensure sufficient time to comply with requirements.

2. Bus Applicability

In the NPRM, FTA did not propose extending mandatory PTSCTP applicability to the bus transit industry. However, FTA sought industry input on whether mandatory PTSCTP participation should extend to bus transit agencies and personnel. FTA received nine responses offering input on whether the requirements should extend to bus transit.

Comments: Three commenters recommended extending the requirements to bus transit. A nonprofit organization argued it should be mandatory due to the number of bus collisions. A labor union argued to extend PTSCTP requirements due to the nature of safety responsibilities and to ensure consistent safety standards across all modes of public transportation. A transit agency supported extending requirements to bus transit only if applicable “bus safety oversight personnel” are narrowly defined and requested that FTA clarify the anticipated operational and financial impact on large bus transportation agencies compared with small and medium-sized bus agencies.

Three commenters argued against extending PTSCTP requirements to bus transit. An individual argued against extending requirements to bus transit, citing challenges such as limited course availability and additional burden to bus agency resources. An industry association argued against expansion, noting limited course availability, limited bus agency resources, and a lack of oversight structure such as the State Safety Oversight (SSO) program in place for rail transit. A transit agency argued that bus agencies should monitor their own performance under the Public Transportation Agency Safety Plan (PTASP) requirements and determine if additional training is needed. The agency also argued that the additional burden would be too much given limited bus agency resources. This bus agency also raised concerns regarding applicability to contractors that support bus operations.

Three commenters expressed neutral positions regarding expansion of PTSCTP requirements to bus transit. One SSOA recommended FTA seek input directly from bus transit stakeholders regarding the expansion of PTSCTP applicability beyond SSOAs and rail transit agencies. Two transit agencies did not express a clear position for or against expansion but noted that training availability would be a significant challenge. One of these transit agencies also noted that if applicability was expanded to bus transit, FTA may need to consider modifying the three-year requirement to allow ample time for bus personnel to take required courses.

Response: FTA appreciates the feedback received regarding the expansion of PTSCTP applicability to bus transit. FTA will not expand the applicability of this regulation to the bus transit industry through this rulemaking. The final rule will apply only to those agencies, personnel, and contractors identified in § 673.3(b). FTA will use this information to inform any future action related to PTSCTP applicability and associated requirements.

B. Section 672.5—Definitions

1. Directly Responsible for Safety Oversight

Comments: One rail transit agency commented on the definition of “directly responsible for safety oversight,” arguing that implementation of the agency safety plan (ASP) is a responsibility broadly shared throughout a transit agency and that without additional clarification, the number of affected individuals would be so large that agencies may choose to define those directly responsible for safety based on the practical limitations of training access.

Response: FTA acknowledges the concern raised by the commenter. FTA agrees that a significant number of transit agency workers may have roles in which they carry out activities defined by the ASP and that safety is a shared responsibility. The use of the word “implementation” in the definition of “directly responsible for safety oversight” is intended to include individuals whose primary job function is ensuring that the ASP is carried out. FTA notes that the definition is intended to identify transit agency workers with safety oversight roles. The definition is not intended to include every worker that may follow a policy defined in the ASP. FTA also notes that the definition in the final rule establishes minimum requirements, and as such, a transit agency may go beyond these when designating which individuals are directly responsible for safety oversight.

2. Rail Fixed Guideway Public Transportation System

Comments: One transit agency asked FTA to clarify if the definition of “rail fixed guideway transportation system” would supersede the definition of this term in other regulations.

Response: FTA appreciates the comment and the importance of definitional consistency across FTA programs. The definition in the final rule is consistent with other recent regulatory actions, including 49 CFR parts 673 and 674.

3. Safety Oversight Training

Comments: One transit agency asked FTA to consider defining “safety oversight training.”

Response: FTA has considered the commenter's suggestion to add a definition for safety oversight training. FTA notes that this final rule maintains the flexibility for transit agencies and SSOAs to identify the recertification training courses or activities their designated participants must complete for recertification. Further, FTA notes that the definition of “directly responsible for safety oversight” clarifies FTA's understanding of the safety oversight role, including ASP development and the SSOA requirements for rail transit agencies pursuant to 49 CFR part 674. FTA declines to add a separate definition for “safety oversight training.”

C. Section 672.11—State Safety Oversight Agency Employees and Contractors Who Conduct Reviews, Inspections, Examinations, and Other Safety Oversight Activities of Rail Fixed Guideway Public Transportation Systems

1. General

Comments: A nonprofit organization supported the requirement for SSOAs to identify their designated personnel and to ensure they are enrolled in the PTSCTP within 30 days of designation.

Response: FTA appreciates the commenter's support for the proposed requirement.

2. PTSCTP Recertification

Comments: One SSOA expressed concern with the addition of a refresher training element defined by FTA and recommended that FTA provide additional details on what the PTSCTP refresher training element would include. This commenter encouraged FTA to coordinate with SSOAs and other professional organizations in the development of this refresher training element.

Response: As noted in response to comments on § 672.17 (Voluntary Participants), FTA has revised the term “refresher training” to “recertification training.” FTA has not yet developed specific PTSCTP recertification training for SSOA personnel beyond the requirement at § 673.11(d)(2). FTA appreciates the commenter's suggestion and notes that it will consider multiple forms of input to support FTA's development of required recertification training, including input from SSOAs.

D. Section 672.13—Rail Transit Agency Employees and Contractors Who Are Directly Responsible for the Safety Oversight of a Rail Fixed Guideway Public Transportation System

1. Designated Personnel

Comments: One labor union requested FTA to consider extending the applicability of the final rule to agency personnel that serve on the Safety Committee required by the PTASP Regulation (49 CFR part 673).

Response: PTSCTP participation is mandatory for rail transit agency employees and contractors whose primary job function includes safety oversight, including the development, implementation and review of the ASP, and/or the SSOA requirements for the rail fixed guideway public transportation system pursuant to 49 CFR part 674. A rail transit agency may determine that certain individuals who serve on a rail transit agency's Safety Committee meet this description and may designate them as mandatory PTSCTP participants. However, FTA notes that individuals whose primary job function is not safety oversight may serve on the Safety Committee and, as such may not be designated by the transit agency. Further, FTA intends to develop and facilitate additional technical assistance and training focused on Safety Committee requirements and member roles and responsibilities.

2. PTSCTP Recertification

Comments: One transit agency and one industry association opposed the addition of a refresher training element defined by FTA without FTA providing additional details on what the refresher training element would include. Another transit agency requested FTA define the refresher training element identified by FTA in the final rule and requested FTA provide more information on the refresher training element, including the length of the training and how the training would be delivered. One transit agency requested that FTA continue to allow agencies to determine their own refresher training requirements that are most relevant to their own unique operating environments and characteristics.

One industry association requested FTA specify courses that are acceptable to meet the PTSCTP refresher training requirement. One transit agency requested FTA clarify the consequences of a participant not completing refresher training by the required completion date.

Response: FTA acknowledges the concerns commenters raised regarding the final rule's requirement for a refresher training element defined by FTA. As noted in response to comments on § 672.17 (Voluntary Participants), FTA has revised the term “refresher training” to “recertification training.” FTA has not yet defined a recertification element for rail transit agencies beyond the requirement at § 672.13(d)(2). FTA-defined recertification training may provide agencies with relevant updates regarding FTA regulations, notices, directives, and best practices, and will be delivered in a format designed to minimize burden on the industry.

FTA appreciates the comment that agencies should be able to identify refresher training requirements that best suit their needs. The final rule maintains this requirement for recertification in §§ 672.11(d)(2) and 672.13(d)(2) while adding an additional recertification element identified by FTA.

FTA acknowledges the comment that requested FTA specify the courses or activities that meet the refresher training requirement established under the final rule at §§ 672.11(d)(2) and 672.13(d)(2). FTA declines to provide an exhaustive list of courses or activities that meet the recertification requirement in the final rule, as such a list would evolve as additional training courses and activities are made available by FTA and the industry. FTA has published a technical assistance fact sheet (https://www.transit.dot.gov/regulations-and-programs/safety/ptsctp-refresher-training-overview-fact-sheet) to help agencies determine what courses or activities may best suit their agency's needs.

FTA acknowledges the comment requesting FTA clarify the consequences of a participant not completing PTSCTP refresher training. A recipient that does not ensure its designated participants complete PTSCTP recertification within the required two-year period is subject to FTA enforcement action in accordance with FTA's authorities under 49 U.S.C. 5329.

E. Section 672.17—Voluntary Participants

1. PTSCTP Recertification

Comments: One transit agency requested FTA provide an explanation of why voluntary participants would not be required to complete PTSCTP refresher training. One industry association opposed the removal of refresher training requirements for voluntary participants. This commenter, and one transit agency, also requested clarification on how the refresher training requirement would apply to a voluntary participant who later became “designated” by an SSOA or rail transit agency.

Response: FTA acknowledges the commenters who opposed the removal of refresher training requirements for voluntary participants and the commenter who requested more information on this proposed change. The mandatory requirements of the final rule only apply to those “designated personnel” identified in §§ 672.11(a) and 672.13(a). To clarify the applicability of the training required to maintain PTSCTP certification, FTA has revised the term “refresher training” to “recertification” where applicable. Voluntary participants may choose to complete PTSCTP-related training courses to maintain their knowledge and skills related to the PTSCTP, but voluntary participants are not required to complete recertification requirements to maintain their PTSCTP certification. FTA does not have the legal authority to require voluntary participants to complete the initial safety training requirements of the PTSCTP or recertification.

FTA acknowledges the commenters who requested clarification of the refresher training requirements for a voluntary participant who later becomes a designated participant of an SSOA or rail transit agency. Upon designation, a participant must complete the initial safety training requirements of the PTSCTP within three years. If a voluntary participant who has already completed the initial safety training requirements of the PTSCTP is later “designated” by a rail transit agency or SSOA, the individual would need to complete applicable recertification requirements within two years of their designation.

F. Section 672.21—Records

1. Point of Contact

Comments: Six commenters supported the establishment of a point of contact (POC) at each applicable agency. Commenters included three transit agencies, a nonprofit organization, a labor union, and an industry association. One transit agency was not opposed to the establishment of a POC but suggested FTA provide guidance on the type of communication and documentation the POC will be required to provide. One transit agency recommended FTA require a secondary POC.

One transit agency stated that the POC should not be required to track voluntary participants from their agency until such time the participant becomes a “designated” participant of the agency.

One transit agency requested that FTA clarify whether the POC would be responsible for tracking completion of the recertification element defined by FTA.

Response: FTA appreciates the comments supporting the establishment of a POC to streamline communication between FTA and the applicable SSOAs and rail transit agencies. In response to the comment requesting guidance on the type of communication and documentation the POC will be required to provide, FTA notes that it will develop and distribute technical assistance as needed to support SSOA and rail transit agency compliance with the final rule.

FTA acknowledges the commenter who suggested FTA add a requirement for agencies to establish a secondary POC in the final rule. FTA agrees this may be a good practice for some agencies to adopt but is declining to impose this as a requirement in the final rule to limit any additional administrative burden.

FTA acknowledges the commenter who suggested the agency POC would not be required to track voluntary participants unless they become “designated” by the agency. FTA agrees that agency POCs should not be required to track their agency personnel and contractors who are voluntarily participating in the PTSCTP. However, as part of the semiannual reporting requirement, FTA may request the POC to confirm whether a voluntary participant has been designated by the agency or is still participating on a voluntary basis.

In response to the comment requesting FTA clarify if the agency POC would be responsible for tracking completion of the recertification element defined by FTA, FTA expects agencies to monitor and track their designated participants' completion of all applicable training requirements, including recertification requirements.

2. Semiannual Reporting

Comments: Four commenters supported the semiannual reporting requirement, including one individual, one labor union, and two transit agencies. The individual also recommended that FTA set specific dates for the semiannual reporting requirement and requested additional information on how FTA will facilitate the semiannual reporting and whether FTA will send out reminders to affected agencies.

One industry association recommended that FTA give rail transit agencies and SSOAs flexibility in how they report semiannually. This commenter and a transit agency suggested FTA provide a template that the agencies may choose to use.

One SSOA agreed that recertification and training compliance should be monitored but expressed concern the proposed changes are burdensome. The commenter suggested that semiannual reporting should be completed annually through the State Safety Oversight Reporting (SSOR) tool and that FTA can monitor training compliance through the State Safety Oversight (SSO) audit program.

Response: FTA appreciates the four commenters who expressed support for the semiannual reporting requirements. FTA declines to establish specific reporting dates in this final rule in order to provide reporting process development flexibility. Upon identification, FTA will communicate any specific reporting deadlines to the SSOA and rail transit agency community.

FTA acknowledges the commenter who expressed concern related to the potential reporting burden associated with the semiannual reporting requirements. FTA has established these new reporting requirements to help control the burden associated with ad-hoc requests and inconsistencies in agencies' processes for tracking PTSCTP information. FTA plans to develop a process and mechanism that will control burden and establish information consistency across the industry.

FTA appreciates the commenter's suggestion regarding specific data collection platforms but notes that the SSOR tool is not accessible by rail transit agencies and is not designed to support semiannual PTSCTP reporting. FTA also acknowledges the commenter's suggestion that FTA can monitor PTSCTP compliance through the SSO audit program. FTA notes that the SSO audit program audits compliance with 49 CFR part 674. To the extent that any PTSCTP-related requirements are established by part 674, the SSO audit program will ensure compliance with such requirements.

III. Section-by-Section Analysis

Subpart A—General Provisions

Section 672.1—Purpose

This section defines the purpose of this rule, which is to implement a uniform safety certification training program and to enhance the technical proficiency of individuals who conduct safety reviews, inspections, examinations, and other safety oversight activities of public transportation systems operated by public transportation agencies and those who are directly responsible for safety oversight of public transportation agencies. This section clarifies that the final rule does not preempt any safety certification training requirements required by a State for public transportation agencies within its jurisdiction.

Section 672.3—Scope and Applicability

This section sets forth the applicability of the PTSCTP regulation. The regulation applies to all recipients of Federal financial assistance under 49 U.S.C. chapter 53. This section specifies that PTSCTP requirements only apply to SSOAs and their employees and contractors that conduct safety reviews, inspections, examinations, and other safety oversight activities of rail fixed guideway public transportation systems and to rail transit agencies and their employees and contractors who are directly responsible for the safety oversight of a recipient's rail fixed guideway public transportation systems.

Section 672.5—Definitions

This section sets forth the definitions of key terms used in the regulation. Notably, readers should refer to new definitions for terms such as “initial training,” “safety review,” “designated personnel,” and “voluntary participant.” In addition, readers should refer to new definitions for “recertification” and “recertification training” related to the replacement of the term “refresher training.”

Subpart B—Training Requirements

Section 672.11—State Safety Oversight Agency Employees and Contractors Who Conduct Reviews, Inspections, Examinations, and Other Safety Oversight Activities of Rail Fixed Guideway Public Transportation Systems

Section 672.11(a) establishes requirements for SSOAs to designate certain SSOA employees and contractors that must comply with PTSCTP requirements. This includes employees and contractors that conduct reviews, inspections, examinations, and other safety oversight activities of public transportation systems, including appropriate managers and supervisors of such personnel.

Section 672.11(b) requires SSOAs to ensure that designated personnel are enrolled in the PTSCTP within 30 days of designation and that designated participants comply with PTSCTP requirements.

Section 672.11(c) establishes a three-year deadline for designated SSOA participants to complete the applicable training requirements of part 672.

Section 672.11(d) establishes two recertification requirements which must be completed by designated SSOA participants every two years following completion of the PTSCTP curriculum, including recertification requirements defined by FTA and recertification requirements defined by the SSOA, which must include one hour of safety oversight training.

Section 672.13—Rail Transit Agency Employees and Contractors Who Are Directly Responsible for the Safety Oversight of a Rail Fixed Guideway Public Transportation System

Section 672.13(a) establishes requirements for rail transit agencies to designate certain rail transit agency employees and contractors who must comply with PTSCTP requirements. This includes employees and contractors who are directly responsible for safety oversight of rail modes.

Section 672.13(b) requires rail transit agencies to ensure that designated personnel are enrolled in the PTSCTP within 30 days of designation and that designated participants comply with PTSCTP requirements.

Section 672.13(c) establishes a three-year deadline for designated rail transit agency participants to complete the applicable training requirements of part 672.

Section 672.13(d) establishes two recertification requirements which must be completed by designated rail transit agency participants every two years following completion of the PTSCTP curriculum, including recertification requirements defined by FTA and recertification requirements defined by the rail transit agency, which must include one hour of safety oversight training.

Section 672.15—Evaluation of Prior Certification and Training

Section 672.15(a) clarifies the process for requesting a course equivalency evaluation from FTA.

Section 672.15(b) clarifies requirements for requesting a course equivalency evaluation from FTA.

Section 672.15(c) defines how FTA may make determinations for requested course equivalency evaluations.

Section 672.17—Voluntary Participants

This section establishes that individuals not designated by an SSOA or rail transit agency may voluntarily participate in the program.

Section 672.17(a) defines the requirements for receiving a certificate of completion as a voluntary participant and clarifies that the recertification requirement does not apply to voluntary participants and that FTA will not recertify voluntary participants.

Section 672.17(b) clarifies that if a voluntary participant has received PTSCTP certification and is subsequently designated by an SSOA or rail transit agency as a PTSCTP participant, the individual would then need to meet the established recertification requirements for designated PTSCTP participants within two (2) years of designation.

Subpart C—Administrative Requirements

Section 672.21—Records

This section establishes new administrative requirements for recipients subject to the requirements of the rule, including SSOAs and rail transit agencies.

Section 672.21(a) clarifies an applicable grantee's responsibilities for ensuring its designated personnel meet the requirements established by this part. These responsibilities include ensuring designated personnel are enrolled in the PTSCTP, ensuring designated personnel complete the initial training within three years of enrollment, and ensuring designated personnel complete recertification every two years upon completion of the initial PTSCTP curriculum.

Section 672.21(b) establishes the requirement for SSOAs and rail transit agencies to identify a single point of contact (POC) at the agency who will serve as a liaison with FTA regarding PTSCTP records. FTA expects recipients to provide FTA with standard contact information for the identified PTSCTP POC, including name, title, phone number, and email address.

Section 672.21(c) establishes the responsibilities of the identified PTSCTP POC, including informing FTA of changes in enrolled PTSCTP participants, enrolling new PTSCTP participants, and confirming recertification requirements and completion for participants. FTA expects to conduct PTSCTP-related communication with recipients through email (FTASafetyPromotion@dot.gov) until such time as FTA defines an alternative method for information submission.

Section 672.21(d), FTA establishes a semiannual reporting requirement for the PTSCTP. This section sets the requirement for the identified PTSCTP POC to submit a current list of individuals designated as required PTSCTP participants, and the course or courses that that agency has identified as required for PTSCTP recertification. For recertification requirement documentation, the PTSCTP POC must report the specific name and length of each course, as well as the name of the course training provider or developer.

Section 672.21(e) clarifies the existing requirement for SSOAs to submit a technical training plan to FTA as part of its annual reporting requirements established at § 674.39 of this chapter. FTA has also replaced the reference to “System Safety Program Plan” in Appendix A of the current rule with “Agency Safety Plan” in § 672.21(e)(3). This section also sets the requirement for training records to include the minimum passing scores for proficiency tests. This provides FTA with the parameters for designated personnel to pass or fail the subject proficiency test and enables FTA to interpret proficiency test scores.

Section 672.23—Availability of Records

This final rule does not amend this section.

Subpart D—Administrative Requirements

Section 672.31—Requirement To Certify Compliance

The final rule does not amend this section.

IV. Regulatory Analyses and Notices

Executive Order 12866 (Regulatory Planning and Review) and Executive Order 13563 (Improving Regulation and Regulatory Review)

Executive Order 12866 (“Regulatory Planning and Review”), as supplemented by Executive Order 13563 (“Improving Regulation and Regulatory Review”) and Executive Order 14094 (“Modernizing Regulatory Review”), directs Federal agencies to assess the benefits and costs of regulations, to select regulatory approaches that maximize net benefits when possible, and to consider economic, environmental, and distributional effects. It also directs the Office of Management and Budget (OMB) to review significant regulatory actions, including regulations with annual economic effects of $200 million or more. OMB has determined the final rule is not significant within the meaning of Executive Order 12866.

Updates From the NPRM

The analysis for the final rule adds calculations using a discount rate of 2 percent, following guidance in the November 2023 update to OMB Circular A-4.² The analysis also updates the assumed effective date for the rule to 2024.

² Office of Management and Budget (2023). “Circular No. A-4.” https://www.whitehouse.gov/wp-content/uploads/2023/11/CircularA-4.pdf.

Overview and Need for Regulation

The final rule would add administrative and training requirements for SSOAs and rail transit agencies subject to the requirements of the PTSCTP. The rule would require each agency to establish a point of contact who would enroll designated personnel and submit proof of their training. SSOAs and rail transit agencies (RTAs) would also provide semiannual documentation to FTA. Finally, the rule would require designated personnel to complete FTA-defined recertification training every two years.

Benefits

The final rule would lead to increased agency compliance with PTSCTP requirements. This analysis does not estimate benefits from increased compliance, however, because the economic analysis for the PTSCP rule that established the requirements assumed that agencies would have full compliance. Estimating benefits would therefore lead to double counting.

The final rule would also lead to minor cost savings for FTA staff and contractors, who would need to spend less time verifying that agency employees met training requirements. To estimate cost savings, FTA used time and wage estimates for federal employees and contractors currently supporting the PTSCP program. In 2022 dollars, the rule would have an estimated annual cost savings of $5,900 (Table 2).

Table 2—Annual Cost Savings
[2022 Dollars]
Staff | Annual hours | Wages or rates | Cost savings
FTA program manager | 40 | $93.56 | $2,428
Contractor program manager | 12 | 179.32 | 2,152
Contractor analyst | 12 | 110.34 | 1,324
Total | 64 |  | 5,904

Costs

To estimate the costs of meeting the new requirements, FTA estimated the number of entities affected, the number and type of staff involved, and the time needed (Table 3). The requirements would affect 31 SSOAs and 64 rail transit agencies in operation as of March 1, 2023.3 4

³ Federal Transit Administration. March 19, 2024. “State Safety Oversight Contacts.” https://www.transit.dot.gov/regulations-and-guidance/safety/state-safety-oversight-contacts.

⁴ Federal Transit Administration. 2023. “National Transit Database: 2022 Annual Database Service.” https://www.transit.dot.gov/ntd/data-product/2022-annual-database-service.

Table 3—Annual Staff and Hours Needed To Meet Requirements
Requirement | Affected entities | Annual hours | Total hours
Staff enrollment | 31 SSOAs; 64 rail transit agencies | 12 | 1,140
Point of contact identification | 31 SSOAs; 64 rail transit agencies | 2 | 190
Point of contact responsibilities | 31 SSOAs; 64 rail transit agencies | 24 | 2,280
Semi-annual reporting | 31 SSOAs; 64 rail transit agencies | 4 | 380
Refresher training | 175 SSOA employees; 439 rail transit agency employees | 4 (8 hours every 2 years) | 2,456
Total |  |  | 6,446

To estimate the value of staff time spent on the requirements, FTA used May 2022 occupational wage data from the Bureau of Labor Statistics, the latest available as of March 2024, in the “Transit and Ground Passenger Transportation” industry (North American Industry Classification System code 485000).⁵ The “General and Operations Managers” (code 11-1021) was used to represent the wages of SSOA and rail transit agency points of contact. For SSOA and rail transit agency personnel completing training, the “Transportation Inspectors” (code 53-6051) occupational category was used. FTA used median hourly wages as a basis for the estimates, multiplying the wages by 1.62 to account for employer benefits.⁶

⁵ Bureau of Labor Statistics. 2023. “May 2022 National Occupational Employment and Wage Estimates: United States: NAICS 485000—Transit and Ground Passenger Transportation.” https://www.bls.gov/oes/current/naics3_485000.htm.

⁶ Multiplier derived using Bureau of Labor Statistics data on employer costs for employee compensation in December 22 (https://www.bls.gov/news.release/ecec.htm). Employer costs for state and local government workers averaged $57.60 an hour, with $35.69 for wages and $21.95 for benefit costs. To estimate full costs from wages, one would use a multiplier of $57.60/$21.95, or 1.62.

Table 4—Occupational Categories and Wages Used To Value Staff Time
[2022 Dollars]
Staff | Occupational category | Code | Median hourly wage | Wage with benefits
SSOA and RTA POCs | General and Operations Managers | 11-1021 | $37.63 | $60.69
SSOA and RTA personnel | Transportation Inspectors | 53-6051 | 21.61 | 34.86

The administrative and reporting requirements of the proposed rule have estimated annual costs of $318,000 (Table 5). The largest annual costs are for point of contact responsibilities ($128,000) and refresher training ($86,000). FTA would also incur minimal one-time costs to develop the refresher training materials.

Table 5—Annual Costs for Administrative and Training Requirements
[2022 Dollars]
Requirement | Annual costs
Staff enrollment | $69,191
Point of contact identification | 11,532
Point of contact responsibilities | 128,337
Semi-annual reporting | 23,064
Refresher training | 85,603
Total | 317,726

Summary

Table 6 summarizes the economic effects of the proposed rule over the first ten years of the rule from 2024—the assumed effective date of the rule—to 2033 in 2022 dollars. On an annualized basis, the rule would have net costs of $318,000 at a 2 percent discount rate, $321,000 at a 3 percent rate, and $334,000 at a 7 percent rate, discounted to 2024.

Table 6—Summary of Economic Effects, 2024-2033
[2022 Dollars, discounted to 2023]
Item | Annualized (2%) | Annualized (3%) | Annualized (7%)
Benefits:
Cost savings for FTA staff | $6,081 | $6,317
Costs:
Staff enrollment | 70,574 | 71,266 | 74,034
Point of contact identification | 11,762 | 11,878 | 12,339
Point of contact responsibilities | 130,903 | 132,187 | 137,320
Semi-annual reporting | 23,525 | 23,755 | 24,678
Refresher training | 87,316 | 88,172 | 91,596
Total costs | 324,080 | 327,258 | 339,967
Net costs | 318,059 | 321,177 | 333,650

Regulatory Flexibility Act

The Regulatory Flexibility Act of 1980 (RFA) (5 U.S.C. 601 et seq.) requires Federal agencies to assess the impact of a regulation on small entities unless the agency determines that the regulation is not expected to have a significant economic impact on a substantial number of small entities.

The final rule requires SSOAs and rail transit agencies to meet additional administrative requirements. Under the Regulatory Flexibility Act, local governments and other public-sector organizations qualify as small entities if they serve a population of less than 50,000. State agencies do not qualify, and no rail transit agency serves an urbanized area with a population of less than 50,000. FTA has therefore determined that the final rule would not have a significant effect on a substantial number of small entities.

Unfunded Mandates Reform Act of 1995

FTA has determined that this rule does not impose unfunded mandates, as defined by the Unfunded Mandates Reform Act of 1995 (2 U.S.C. 1532). This rule does not include a Federal mandate that may result in the expenditure by State, local, and tribal governments, in the aggregate, or by the private sector of $100 million or more (adjusted for inflation) in any one year. Additionally, the definition of “Federal mandate” in the Unfunded Mandates Reform Act excludes financial assistance of the type in which State, local, or tribal governments have authority to adjust their participation in the program in accordance with changes made in the program by the Federal Government. The Federal Transit Act permits this type of flexibility.

Executive Order 13132 (Federalism Assessment)

Executive Order 13132 requires agencies to assure meaningful and timely input by State and local officials in the development of regulatory policies that may have a substantial direct effect on the States, on the relationship between the national government and the States, or on the distribution of power and responsibilities among the various levels of government. This action has been analyzed in accordance with the principles and criteria contained in Executive Order 13132 and FTA determined this action will not have a substantial direct effect or sufficient federalism implications on the States. FTA also determined this action will not preempt any State law or regulation or affect the States' ability to discharge traditional State governmental functions.

Executive Order 12372 (Intergovernmental Review)

The regulations implementing Executive Order 12372 regarding intergovernmental consultation on Federal programs and activities apply to this program.

Paperwork Reduction Act

In compliance with the Paperwork Reduction Act of 1995 (44 U.S.C. 3501 et seq.) (PRA) and the White House Office of Management and Budget's (OMB) implementing regulation at 5 CFR 1320.8(d), FTA is seeking approval from OMB for a currently approved information collection that is associated with a notice of proposed rulemaking. The information collection (IC) was previously approved on October 4, 2022. However, this submission includes administrative requirements that will impact the information collected and the responding burden hours and costs to recipients.

Type of Collection: Operators of public transportation systems.

Type of Review: OMB Clearance. Previously Approved Information Collection Request.

Summary of the Collection: The information collection (IC) provides minimum training requirements for Federal and State personnel and contractors who conduct safety audits and examinations of transit systems and for transit agency personnel and contractors who are directly responsible for safety oversight to enhance the technical proficiency.

Need for and Expected Use of the Information to be Collected: Collection of information for this program is necessary to ensure FTA grantees subject to the PTSCTP regulation certify compliance with training and recertification training requirements and allow FTA to monitor ongoing PTSCTP participation and compliance. The program establishes a uniform curriculum for safety training that consists of minimum requirements to enhance the technical proficiency of transit safety personnel.

Respondents: Respondents include State Safety Oversight Agency personnel and contractors who conduct safety audits and examinations of rail transit systems, rail transit agency personnel and contractors who are directly responsible for safety oversight, and bus transit agency personnel and contractors who are directly responsible for safety oversight.

Frequency: Annual, Periodic.

National Environmental Policy Act

Federal agencies are required to adopt implementing procedures for the National Environmental Policy Act (NEPA) that establish specific criteria for, and identification of, three classes of actions: (1) Those that normally require preparation of an Environmental Impact Statement, (2) those that normally require preparation of an Environmental Assessment, and (3) those that are categorically excluded from further NEPA review (40 CFR 1507.3(b)). This rule qualifies for categorical exclusions under 23 CFR 771.118(c)(4) (planning and administrative activities that do not involve or lead directly to construction). FTA has evaluated whether the rule will involve unusual or extraordinary circumstances and has determined that it will not.

Executive Order 12630 (Taking of Private Property)

FTA has analyzed this rule under Executive Order 12630, Governmental Actions and Interference with Constitutionally Protected Property Rights. FTA does not believe this rule affects a taking of private property or otherwise has taking implications under Executive Order 12630.

Executive Order 12988 (Civil Justice Reform)

This rule meets applicable standards in sections 3(a) and 3(b)(2) of Executive Order 12988, Civil Justice Reform, to minimize litigation, eliminate ambiguity, and reduce burden.

Executive Order 13045 (Protection of Children)

FTA has analyzed this rule under Executive Order 13045, Protection of Children from Environmental Health Risks and Safety Risks. FTA certifies that this action will not cause an environmental risk to health or safety that might disproportionately affect children.

Executive Order 13175 (Tribal Consultation)

FTA has analyzed this rule under Executive Order 13175, dated November 6, 2000, and believes that it will not have substantial direct effects on one or more Indian tribes; will not impose substantial direct compliance costs on Indian tribal governments; and will not preempt tribal laws. Therefore, a tribal summary impact statement is not required.

Executive Order 13211 (Energy Effects)

FTA has analyzed this action under Executive Order 13211, Actions Concerning Regulations That Significantly Affect Energy Supply, Distribution, or Use. FTA has determined that this action is not a significant energy action under that order and is not likely to have a significant adverse effect on the supply, distribution, or use of energy. Therefore, a Statement of Energy Effects is not required.

Executive Orders 14096, 12898 (Environmental Justice)

Executive Order 14096 (Revitalizing Our Nation's Commitment to Environmental Justice for All)(April 21, 2023)(which builds upon Executive Order 12898) and DOT Order 5610.2(a) (77 FR 27534) ⁷ require DOT agencies to achieve environmental justice (EJ) as part of their mission consistent with statutory authority by identifying, analyzing, and addressing, as appropriate, disproportionate and adverse human health or environmental effects, including those related to climate change and cumulative impacts of environmental and other burdens on communities with EJ concerns. All DOT agencies seek to advance these policy goals and to engage in this analysis as appropriate in all rulemaking activities. On August 15, 2012, FTA's Circular 4703.1 became effective, which contains guidance for recipients of FTA financial assistance to incorporate EJ principles into plans, projects, and activities.⁸

⁷ Department of Transportation Updated Environmental Justice Order 5610.2(a): Actions to Address Environmental Justice in Minority Populations and Low-Income Populations, 77 FR 27534 (May 10, 2012). https://www.transportation.gov/transportation-policy/environmental-justice/department-transportation-order-56102a.

⁸ Federal Transit Administration (February 2020). “Environmental Justice Policy Guidance for Federal Transit Administration Recipients.” https://www.transit.dot.gov/regulations-and-guidance/fta-circulars/environmental-justice-policy-guidance-federal-transit.

FTA has evaluated this action under its environmental justice policies and FTA has determined that this action will not cause disproportionate and adverse human health and environmental effects on communities with EJ concerns.

Regulation Identifier Number

A Regulation Identifier Number (RIN) is assigned to each regulatory action listed in the Unified Agenda of Federal Regulations. The Regulatory Information Service Center publishes the Unified Agenda in April and October of each year. The RIN number contained in the heading of this document can be used to cross-reference this rule with the Unified Agenda.

List of Subjects in 49 CFR Part 672

Mass transportation, Reporting and recordkeeping requirements, Safety.

Veronica Vanterpool,
Acting Administrator.

In consideration of the foregoing, and under the authority of 49 U.S.C. 5329 and 5334, and the delegation of authority at 49 CFR 1.91, the Federal Transit Administration revises 49 CFR part 672 to read as follows:

PART 672—PUBLIC TRANSPORTATION SAFETY CERTIFICATION TRAINING PROGRAM

Subpart A—General Provisions
Sec.
672.1 Purpose.
672.3 Scope and applicability.
672.5 Definitions.
Subpart B—Training Requirements
672.11 State Safety Oversight Agency employees and contractors who conduct safety reviews, inspections, examinations, and other safety oversight activities of rail fixed guideway public transportation systems.
672.13 Rail transit agency employees and contractors who are directly responsible for the safety oversight of a rail fixed guideway public transportation system.
672.15 Evaluation of prior certification and training.
672.17 Voluntary participants.
Subpart C—Administrative Requirements
672.21 Records.
672.23 Availability of records.
Subpart D—Compliance and Certification Requirements
672.31 Requirement to certify compliance.

Authority: 49 U.S.C. 5329, 5334; 49 CFR 1.91.

Subpart A—General Provisions

§ 672.1 Purpose.

(a) This part implements a uniform safety certification training curriculum and requirements to enhance the technical proficiency of individuals who conduct safety reviews, inspections, examinations, and other safety oversight activities of public transportation systems operated by public transportation agencies and those who are directly responsible for safety oversight of public transportation agencies.

(b) This part does not preempt any safety certification training requirements required by a State for public transportation agencies within its jurisdiction.

§ 672.3 Scope and applicability.

(a) In general, this part applies to all recipients of Federal financial assistance under 49 U.S.C. chapter 53.

(b) The requirements of this part apply only to:

(1) State Safety Oversight Agencies (SSOAs) and their employees and contractors that conduct safety reviews, inspections, examinations, and other safety oversight activities of rail fixed guideway public transportation systems, and

(2) Rail transit agencies and their employees and contractors who are directly responsible for the safety oversight of a recipient's rail fixed guideway public transportation systems.

(c) Voluntary participants may complete the Public Transportation Safety Certification Training Program curriculum in accordance with this part.

§ 672.5 Definitions.

As used in this part:

Administrator means the Federal Transit Administrator or the Administrator's designee.

Contractor means an entity that performs tasks on behalf of the Federal Transit Administration (FTA), a State Safety Oversight Agency (SSOA), or public transportation agency through contract or other agreement.

Designated personnel means:

(1) Employees and contractors identified by a recipient whose job function is directly responsible for safety oversight of the public transportation system of the public transportation agency; or

(2) Employees and contractors of a State Safety Oversight Agency (SSOA) whose job function requires them to conduct reviews, inspections, examinations, and other safety oversight activities of the rail fixed guideway public transportation systems subject to the jurisdiction of the agency.

Directly responsible for safety oversight means public transportation agency personnel whose primary job function includes the development, implementation, and review of the agency's safety plan and/or the State Safety Oversight Agency (SSOA) requirements for the rail fixed guideway public transportation system pursuant to 49 CFR part 674.

Examination means a process for gathering or analyzing facts or information related to the safety of a public transportation system.

FTA means the Federal Transit Administration, an operating administration within the United States Department of Transportation.

Initial training means the group of specific courses an individual must complete within three (3) years of enrollment in the Public Transportation Safety Certification Training Program to receive their first program certificate.

Public transportation agency means an entity that provides public transportation service as defined in 49 U.S.C. 5302 and that has one or more modes of service not subject to the safety oversight requirements of another Federal agency.

Public Transportation Safety Certification Training Program curriculum means the initial training designated personnel or voluntary participants must complete to receive the Public Transportation Safety Certification Training Program certificate of completion.

Rail fixed guideway public transportation system means any fixed guideway system, or any such system in engineering or construction, that uses rail, is operated for public transportation, is within the jurisdiction of a State, and is not subject to the jurisdiction of the Federal Railroad Administration. These systems include but are not limited to rapid rail, heavy rail, light rail, monorail, trolley, inclined plane, funicular, and automated guideway.

Rail transit agency means any entity that provides services on a rail fixed guideway public transportation system.

Recertification means the process of renewing an individual's Public Transportation Safety Certification Training Program certification for two years.

Recertification training means the training courses or activities designated personnel must complete within two (2) years of completing the Public Transportation Safety Certification Training Program curriculum to maintain certification and every two (2) years thereafter.

Recipient means a State or local governmental authority or any other operator of a public transportation system receiving financial assistance under 49 U.S.C. chapter 53.

Safety review means a review or analysis of safety records and related materials.

State means a State of the United States, the District of Columbia, Puerto Rico, the Northern Mariana Islands, Guam, American Samoa, and the Virgin Islands.

State Safety Oversight Agency (SSOA) means an agency established by a State that meets the requirements and performs the functions specified by 49 U.S.C. 5329(e) and (k) and the regulations set forth in 49 CFR part 674.

Voluntary participant means an individual participating in the Public Transportation Safety Certification Training Program that is not subject to the requirements of this part, including:

(1) Employees and contractors of an applicable recipient that have not been designated under § 672.11(a) or § 672.13(a), and

(2) Individuals who are not employees or contractors of an applicable recipient.

Subpart B—Training Requirements

§ 672.11 State Safety Oversight Agency employees and contractors who conduct safety reviews, inspections, examinations, and other safety oversight activities of rail fixed guideway public transportation systems.

(a) Each SSOA shall designate its employees and contractors that must comply with the applicable training requirements of this part and the Public Transportation Safety Certification Training Program (PTSCTP) curriculum. Each SSOA must designate employees and contractors who conduct reviews, inspections, examinations, and other safety oversight activities of public transportation systems, including appropriate managers and supervisors of such personnel.

(b) Each SSOA shall ensure that each designated individual is enrolled in the PTSCTP within 30 days of the individual's designation. Each SSOA shall ensure the compliance of designated participants with the applicable training requirements of this part and the PTSCTP curriculum.

(c) Employees and contractors designated under paragraph (a) of this section shall complete applicable training requirements of this part and the PTSCTP curriculum within three (3) years of their initial PTSCTP enrollment.

(d) Thereafter, upon completion of the PTSCTP curriculum, designated personnel shall complete recertification every two (2) years. Required recertification training shall consist of two elements:

(1) Element 1: Recertification training defined by FTA, and

(2) Element 2: Recertification training defined by the SSOA, which must include, at a minimum, one (1) hour of safety oversight training.

§ 672.13 Rail transit agency employees and contractors who are directly responsible for the safety oversight of a rail fixed guideway public transportation system.

(a) Each rail transit agency shall designate its employees and contractors who must comply with the applicable training requirements of this part and the PTSCTP curriculum. Each rail transit agency must designate employees and contractors who are directly responsible for safety oversight of rail modes.

(b) Each rail transit agency shall ensure that each designated individual is enrolled in the PTSCTP within 30 days of the individual's designation. Each rail transit agency shall ensure the compliance of designated participants with the applicable training requirements of this part and the PTSCTP curriculum.

(c) Employees and contractors designated under paragraph (a) of this section shall complete applicable training requirements of this part and the PTSCTP curriculum within three (3) years of their initial PTSCTP enrollment.

(d) Thereafter, upon completion of the PTSCTP curriculum, designated personnel must complete recertification every two (2) years. Required recertification training shall consist of two elements:

(1) Element 1: Specific recertification training defined by FTA, and

(2) Element 2: Recertification training defined by the rail transit agency, which must include, at a minimum, one (1) hour of safety oversight training.

§ 672.15 Evaluation of prior certification and training.

(a) PTSCTP participants or an identified point of contact described in § 672.21(b) may request that FTA evaluate safety training or certification previously obtained from another entity to determine if the training satisfies an applicable training requirement of this part.

(b) Individuals requesting FTA evaluation of previously obtained training or certification must provide FTA with an official transcript or certificate of the training, a description of the curriculum and competencies obtained, and a brief statement detailing how the training or certification satisfies the applicable requirements of this part. The required information must be submitted using an equivalency credit request via electronic means defined by FTA.

(c) FTA will evaluate the submission and determine if a training requirement of this part may be waived. If a waiver is granted, designated personnel are responsible for completing all other applicable requirements of this part.

§ 672.17 Voluntary participants.

(a) Individuals not subject to the requirements of this part may participate voluntarily. To receive a certificate of completion as a voluntary participant, individuals must complete the PTSCTP curriculum within three (3) years of their enrollment. Voluntary participants are not required to complete recertification. FTA will not recertify voluntary participants.

(b) If a voluntary participant has received a PTSCTP certificate of completion and is subsequently designated by an SSOA or rail transit agency as a PTSCTP participant, the individual will need to complete required recertification training within two (2) years of designation.

Subpart C—Administrative Requirements

§ 672.21 Records.

(a) General requirement. Each recipient subject to the requirements of this part shall ensure that its designated personnel:

(1) Are enrolled in the PTSCTP;

(2) Complete the initial training specified in the PTSCTP curriculum within three (3) years of their enrollment as a designated participant; and

(3) Complete required recertification every two (2) years upon completion of the PTSCTP curriculum.

(b) Point of contact identification. Each recipient, subject to the requirements of this part, shall identify a single point of contact (POC) for communication with FTA regarding PTSCTP information. The recipient shall provide FTA, via electronic method defined by FTA, at a minimum, the POC's name, title, phone number, and email address.

(c) Point of contact responsibilities. Each POC will serve as a liaison between the recipient and FTA to inform FTA of changes in designated personnel participating in the PTSCTP, enroll new participants, submit proof of recertification for the recipient's designated personnel, and address any other program documentation or communications needs.

(d) Semiannual reporting. Semiannually, between January 1st and January 31st and between July 1st and July 31st of each calendar year, the identified POC must submit documentation to FTA, via electronic method defined by FTA, that identifies:

(1) All employees and contractors of the recipient who are designated as PTSCTP participants; and

(2) The course or courses the recipient has identified as required recertification training for their designated personnel. The agency identified recertification training must include, at a minimum, one (1) hour of safety oversight training. The documentation must include the complete name and length of each course, as well as the name of the course training provider.

(e) SSOA requirement. (1) Each SSOA shall retain a record of the technical training completed by its designated personnel in accordance with the technical training requirements of this part. SSOAs shall retain training records for at least five (5) years from the date the record is created.

(2) Each SSOA shall develop and maintain a technical training plan for designated personnel who perform reviews, inspections, examinations, and other safety oversight activities. The SSOA will submit its technical training plan to FTA for review and evaluation as part of its annual reporting to FTA as required under § 674.39 of this chapter. This review process will support the consultation required between FTA and SSOAs regarding the staffing and qualification of the designated personnel in accordance with 49 U.S.C. 5329(e)(3)(D).

(3) Each SSOA shall identify the tasks related to reviews, inspections, examinations, and other safety oversight activities requiring SSOA approval, which must be performed by the SSOA to carry out its safety oversight requirements, and identify the skills and knowledge necessary to perform each oversight task at that system. At a minimum, the technical training plan will describe the process for receiving technical training in the following competency areas appropriate to the specific rail fixed guideway public transportation system(s) for which reviews and inspections conducted:

(i) Agency organizational structure.

(ii) Agency Safety Plan.

(iii) Knowledge of agency:

(A) Territory and revenue service schedules.

(B) Current bulletins, general orders, and other associated directives that ensure safe operations.

(C) Operations and maintenance rule books.

(D) Safety rules.

(E) Standard Operating Procedures.

(F) Roadway Worker Protection.

(G) Employee Hours of Service and Fatigue Management program.

(H) Employee Observation and Testing Program (Efficiency Testing).

(I) Employee training and certification requirements.

(J) Vehicle inspection and maintenance programs, schedules, and records.

(K) Track inspection and maintenance programs, schedules and records.

(L) Tunnels, bridges, and other structures inspection and maintenance programs, schedules, and records.

(M) Traction power (substation, overhead catenary system, and third rail), load dispatching, inspection and maintenance programs, schedules, and records.

(N) Signal and train control inspection and maintenance programs, schedules, and records.

(4) The SSOA will determine the length of time for the technical training based on the skill level of the designated personnel relative to the applicable rail transit agency(s). FTA will provide a template as requested to assist the SSOA with preparing and monitoring its technical training plan and will provide technical assistance as requested. Each SSOA technical training plan that is submitted to FTA for review will:

(i) Require designated personnel to successfully:

(A) Complete training that covers the skills and knowledge needed to effectively perform the tasks.

(B) Pass a written and/or oral examination covering the skills and knowledge required for the designated personnel to effectively perform their tasks.

(C) Demonstrate hands-on capability to perform their tasks to the satisfaction of the appropriate SSOA supervisor or designated instructor.

(ii) Establish equivalencies or written and oral examinations to allow designated personnel to demonstrate that they possess the skill and qualification required to perform their tasks.

(iii) Require biennial recertification training to maintain technical skills and abilities, which includes classroom and hands-on training, as well as testing. Observation and evaluation of actual performance of duties may be used to meet the hands-on portion of this requirement, provided that such testing is documented.

(iv) Require that training records be maintained to demonstrate the current qualification status of designated personnel assigned to carry out the oversight program. Records may be maintained either electronically or in writing and must be provided to FTA upon request. Records must include the following information concerning each designated personnel:

(A) Name;

(B) The title and date each training course was completed, the proficiency test score(s), and the minimum passing score of the test, where applicable;

(C) The content of each training course successfully completed;

(D) A description of the designated personnel's hands-on performance applying the skills and knowledge required to perform the tasks that the employee will be responsible for performing and the factual basis supporting the determination;

(E) The tasks the designated personnel are deemed qualified to perform; and

(F) Provide the date that the designated personnel's status as qualified to perform the tasks expires, and the date in which biennial recertification training is due.

(v) Ensure the qualification of contractors performing oversight activities. SSOAs may use demonstrations, previous training and education, and written and oral examinations to determine if contractors possess the skill and qualification required to perform their tasks.

(vi) Periodically assess the effectiveness of the technical training. One method of validation and assessment could be efficiency tests or periodic review of employee performance.

§ 672.23 Availability of records.

(a) Except as required by law, or expressly authorized or required by this part, a recipient may not release information pertaining to employees and contractors that is required by this part without the written consent of the individual.

(b) Individuals are entitled, upon written request to the recipient, to obtain copies of any records pertaining to their training required by this part. The recipient shall promptly provide the records requested by personnel and access shall not be contingent upon the recipient's receipt of payment for the production of such records.

(c) A recipient shall permit access to all facilities utilized and records compiled in accordance with the requirements of this part to the Secretary of Transportation, the Federal Transit Administration, or any State agency with jurisdiction over public transportation safety oversight of the recipient.

(d) When requested by the National Transportation Safety Board as part of an accident investigation, a recipient shall disclose information related to the training of employees and contractors.

Subpart D—Compliance and Certification Requirements

§ 672.31 Requirement to certify compliance.

(a) A recipient of FTA financial assistance under 49 U.S.C. chapter 53 that is subject to the requirements of this part as specified in § 672.3(b) shall annually certify compliance with this part in accordance with FTA's procedures for annual grant certification and assurances.

(b) A certification must be authorized by the recipient's governing board or other authorizing official and must be signed by a party specifically authorized to do so.

[FR Doc. 2024-18097 Filed 8-13-24; 8:45 am]

BILLING CODE 4910-57-P